NATIONAL AERONAUTICS AND SPACE ADMINISTRATION

[Notice 12-087]

NASA Advisory Council; Human Exploration and Operations Committee; Meeting

AGENCY: National Aeronautics and Space Administration.

ACTION: Notice of meeting

SUMMARY: In accordance with the Federal Advisory Committee Act, Public Law 92-462, as amended, the National Aeronautics and Space Administration (NASA) announces a meeting of the Human Exploration and Operations Committee of the NASA Advisory Council (NAC). This Committee reports to the NAC. The meeting will be held for the purpose of soliciting, from the scientific community and other persons, scientific and technical information relevant to program planning.

DATES: Wednesday, November 14, 2012, 10:00 a.m.-5:15 p.m., and Thursday, November 15, 2012, 9:00 a.m. to 12:30 p.m., Local Time.

ADDRESSES: NASA Headquarters, 300 E Street SW., Space Operations Center, Room 7C61, Washington, DC 20546-0001.

FOR FURTHER INFORMATION CONTACT: Ms. Bette Siegel, Human Exploration and Operations Mission Directorate, NASA Headquarters, 300 E Street SW., Washington, DC 20546-0001, (202) 358-2245, fax (202) 358-2886, or bette.siegel@nasa.gov.

SUPPLEMENTARY INFORMATION: The meeting will be open to the public up to the capacity of the room. This meeting is also available telephonically and by WebEx. Any interested person may call the USA toll free conference call number (800) 857-6564 or toll number (517) 308-9323, pass code 6125443#, to participate in this meeting by telephone. The WebEx link is https://nasa.webex.com/, the meeting number is 990 668 131, and the password is Exploration!!1.

The agenda for the meeting includes the following topics:

—Status of Exploration Systems Development Programs and Integration

—International Space Station Status

—Outreach

—Human Exploration and Operations Status

—Commercial Crew Accomplishments and Certification Process

—Joint Session with the NAC Science Committee on the Mars Program Planning Group final report and Joint Robotics Precursor Activities

The joint session with the NAC Science Committee will be on Wednesday, November 14, 2012, 1:00 p.m. to 3:00 p.m., Local Time. NASA Headquarters, 300 E Street SW., MIC 3, Room 3H46, Washington, DC 20546-0001. Any interested person may call the USA toll free conference call number (888) 606-5936, pass code “Science Committee” to participate in this meeting by telephone. The WebEx link is https://nasa.webex.com/, the meeting number is 993 494 156, and the password is SC@Nov14.

It is imperative that the meeting be held on these dates to accommodate the scheduling priorities of the key participants. Attendees will be required to comply with NASA security procedures; visitors must show a valid State or Federal issued picture ID, green card, or passport to enter into NASA Headquarters, and must state they are attending the NASA Advisory Council Human Exploration and Operations Committee session in the Space Operations Center, Room 7C61. All U.S. citizens and green card holders desiring to attend must provide their full name, company affiliation (if applicable), and citizenship to Bette Siegel via email at bette.siegel@nasa.gov or by telephone at (202) 358-2245 no later than the close of business November 9, 2012. Permanent Residents will need to show residency status (valid green card) and a valid, officially issued picture identification such as a driver's license and must state they are attending the Human Exploration and Operations Committee meeting in the Space Operations Center, Room 7C61. Foreign Nationals must submit, no later than the close of business November 2, 2012, their full name, gender, current address, citizenship, company affiliation (if applicable) to include address, telephone number, and their title, place of birth, date of birth, U.S. visa information to include type, number and expiration date, U.S. Social Security Number (if applicable), and an electronically scanned or faxed copy of their passport and visa to Bette Siegel, Executive Secretary, Human Exploration and Operations Committee, via email at bette.siegel@nasa.gov or fax (202) 358-2886.

Patricia D. Rausch,
Advisory Committee Management Officer, National Aeronautics and Space Administration.

[FR Doc. 2012-26816 Filed 10-31-12; 8:45 am]

BILLING CODE 7510-13-P